DEPARTMENT OF HEALTH AND HUMAN SERVICES

Centers for Disease Control and Prevention

[Program Announcement 04268]

HIV and TB Prevention and Care in Eastlands, Nairobi, Kenya; Notice of Intent To Fund Single Eligibility Award

A. Purpose

The Centers for Disease Control and Prevention (CDC) announces the intent to fund fiscal year (FY) 2004 funds for a cooperative agreement program to provide a comprehensive AIDS prevention and care program in and around Eastlands, Nairobi, Kenya. The Catalog of Federal Domestic Assistance number for this program is 93.941.

B. Eligible Applicant

Assistance will be provided only to the Eastern Deanery AIDS Relief Program (EDARP).

Because of its long history and experience in providing TB and AIDS care in Eastlands, the EDARP is currently the only appropriate and qualified organization to conduct the specific activities needed to achieve the goals of this program. The EDARP has been serving the people of Eastlands and surrounding slums for more than 10 years through provision of TB and AIDS prevention and care. As a faith-based organization building on local church structures and involving volunteers from the church, EDARP has a unique and committed pool of staff, volunteers, and community leaders who can contribute to the success of this project. EDARP has demonstrated an ability to introduce new services when appropriate, including the introduction of VCT in 2001, TB preventive therapy in 2002, PMTCT in 2003, and on a very limited scale, ART in 2004. Because of EDARP's long tradition of serving members of all faiths in this disadvantaged community, EDARP enjoys the trust and confidence not only of the local community but also the local and national government. Thus, no other organization is capable of delivering the described services to this large, resource poor community.

C. Funding

Approximately $5,000,000 is available in FY 2004 to fund this award. It is expected that the award will begin on or before August 15, 2004 and will be made for a 12-month budget period within a project period of up to five years. Funding estimates may change.

D. Where To Obtain Additional Information

For general comments or questions about this announcement, contact: Technical Information Management, CDC Procurement and Grants Office, 2920 Brandywine Road, Atlanta, GA 30341-4146, telephone: 770-488-2700.

For technical questions about this program, contact: Barbara Marston, MD, Project Officer, Global Aids Program (GAP), Kenya Country Team, National Center for HIV, STD and TB Prevention, Centers for Disease Control and Prevention (CDC), PO Box 606 Village Market, Nairobi, Kenya, telephone: 256-20-271-3008, e-mail: emarum@cdcnairobi.mimcom.net.

Dated: July 2, 2004.
Alan A. Kotch,
Acting Director, Procurement and Grants Office, Centers for Disease Control and Prevention.

[FR Doc. 04-15603 Filed 7-8-04; 8:45 am]

BILLING CODE 4163-18-P